FEDERAL COMMUNICATIONS COMMISSION

47 CFR Part 73

[MB Docket No. 21-156; RM-11901; DA 21-437; FR ID 22304]

Television Broadcasting Services Boise, Idaho

AGENCY: Federal Communications Commission.

ACTION: Proposed rule.

SUMMARY: The Commission has before it a petition for rulemaking filed by Sinclair Boise Licensee, LLC (Petitioner), the licensee of KBOI-TV (NBC), channel 9, Boise, Idaho. The Petitioner requests the substitution of channel 20 for channel 9 at Boise, Idaho in the DTV Table of Allotments.

DATES: Comments must be filed on or before May 28, 2021 and reply comments on or before June 14, 2021.

ADDRESSES: Federal Communications Commission, Office of the Secretary, 45 L Street NE, Washington, DC 20554. In addition to filing comments with the FCC, interested parties should serve counsel for the Petitioner as follows: Paul A. Cicelski, Esq., Lerman Senter, PLLC, 2001 L Street NW, Washington, DC 20036.

FOR FURTHER INFORMATION CONTACT: Joyce Bernstein, Media Bureau, at (202) 418-1647; or Joyce Bernstein, Media Bureau, at Joyce.Bernstein@fcc.gov.

SUPPLEMENTARY INFORMATION: In support of its channel substitution request, the Petitioner states that the Commission has recognized that VHF channels have certain propagation characteristics which may cause reception issues for some viewers. Petitioner further states that KBOI-TV has received numerous complaints from viewers unable to receive that Station's over-the-air signal, despite being able to receive signals from other stations, and that its channel substitution proposal will result in more effective building penetration for indoor antenna reception. In its Amended Engineering Exhibit, the Petitioner demonstrated that while the noise limited contour of the proposed channel 20 facility does not completely encompass the licensed channel 9 contour, only 180 persons in two small loss areas are predicted to lose service from KBOI-TV. The Commission, however, considers such a loss to be de minimis.

This is a synopsis of the Commission's Notice of Proposed Rulemaking, MB Docket No. 21-156; RM-11901; DA 21-437, adopted April 16, 2021, and released April 16, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law. 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—Radio Broadcast Service

1. The authority citation for part 73 continues to read as follows:

Authority: 47 U.S.C. 154, 155, 301, 303, 307, 309, 310, 334, 336, 339.

§ 73.622 [Amended]

2. In § 73.622 in paragraph (i), amend the Post-Transition Table of DTV Allotments under Idaho by revising the entry for Boise to read as follows:

§ 73.622 Digital television table of allotments.

* * * * *

(i) * * *

Community | Channel No.
* * * * *
Idaho
* * * * *
Boise | 7, 20, * 21, 39.
* * * * *

[FR Doc. 2021-08908 Filed 4-27-21; 8:45 am]

BILLING CODE 6712-01-P